DEPARTMENT OF LABOR

Employment and Training Administration

[TA-W-65,426]

The Bergquist Company, Touch Screen Division, Including On-Site Leased Workers of Express Professionals and Aerotek, Cannon Falls, MN; Notice of Termination of Investigation

Pursuant to Section 221 of the Trade Act of 1974, as amended, an investigation was initiated on February 27, 2009 in response to a worker petition filed by a company official on behalf of workers of The Bergquist Company, Touch Screen Division, Cannon Falls, Minnesota. The worker group includes on-site workers from Express Professionals and Aerotek.

The petitioner has requested that the petition be withdrawn. Consequently, the investigation has been terminated.

Signed at Washington, DC, this 17th day of March 2009.
Elliott S. Kushner,
Certifying Officer, Division of Trade Adjustment Assistance.

[FR Doc. E9-7149 Filed 3-30-09; 8:45 am]

BILLING CODE 4510-FN-P